DEPARTMENT OF DEFENSE

Office of the Secretary

[Transmittal No. 24-128]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-128, Policy Justification, and Sensitivity of Technology.

Dated: January 13, 2026.
Stephanie J. Bost,
Alternate OSD Federal Register Liaison Officer, Department of Defense.

BILLING CODE 6001-FR-P

BILLING CODE 6001-FR-C

Transmittal No. 24-128

Notice of Proposed Issuance of Letter of Offer Pursuant to Section 36(b)(1) of the Arms Export Control Act, as amended

(i) Prospective Purchaser: Government of Japan

(ii) Total Estimated Value:

Major Defense Equipment * | $ 0
Other | $200 million
TOTAL | $200 million

(iii) Description and Quantity or Quantities of Articles or Services under Consideration for Purchase:

Major Defense Equipment (MDE):

None

Non-Major Defense Equipment:

The following non-MDE items will be included in support of Japan's indigenous Hyper Velocity Gliding Projectiles (HVGP) capability: test preparation, test, and transportation support, including range support; test utility support (water, gas, electricity); range surveillance; range safety including Flight Termination System reviews; radio frequency assignments; test plan generation, test data, and environmental and site approvals; office facilities; administrative services; transport of test equipment; procurement of measuring equipment; coordination meetings in the United States (U.S.) and Japan; and other related elements of logistics and program support.

(iv) Military Department: Navy (JA-P-QRB)

(v) Prior Related Cases, if any: JA-P-QOG

(vi) Sales Commission, Fee, etc., Paid, Offered, or Agreed to be Paid: None known at this time

(vii) Sensitivity of Technology Contained in the Defense Article or Defense Services Proposed to be Sold: See Attached Annex

(viii) Date Report Delivered to Congress: March 10, 2025

* as defined in Section 47(6) of the Arms Export Control Act.

POLICY JUSTIFICATION

Japan—Hyper Velocity Gliding Projectiles Capability Support

The Government of Japan has requested to buy equipment and services in support of its indigenous Hyper Velocity Gliding Projectiles (HVGP) capability, including test preparation, test, and transportation support, including range support; test utility support (water, gas, electricity); range surveillance; range safety including Flight Termination System reviews; radio frequency assignments; test plan generation, test data, and environmental and site approvals; office facilities; administrative services; transport of test equipment; procurement of measuring equipment; coordination meetings in the U.S. and Japan; and other related elements of logistics and program support. The estimated total cost is $200 million.

This proposed sale will support the foreign policy goals and national security objectives of the U.S. by improving the security of a major ally that is a force for political stability and economic progress in the Indo-Pacific region.

The proposed sale will improve Japan's capability to meet current and future threats by providing defense for remote islands. Japan will have no difficulty absorbing this equipment and services into its armed forces.

The proposed sale of this equipment and support will not alter the basic military balance in the region.

Equipment and services will be provided by the U.S. Government. At this time, the U.S. Government is not aware of any offset agreement proposed in connection with this potential sale. Any offset agreement will be defined in negotiations between the purchaser and the contractor.

Implementation of this proposed sale will not require the assignment of any additional U.S. Government or contractor representatives to Japan.

There will be no adverse impact on U.S. defense readiness as a result of this proposed sale.

Transmittal No. 24-128

Notice of Proposed Issuance of Letter of Offer Pursuant to Section 36(b)(1) of the Arms Export Control Act

Annex

Item No. vii

(vii) Sensitivity of Technology:

1. The upgraded Hyper Velocity Gliding Projectile (HVGP) is an indigenous weapon and standoff missile. The weapon uses a solid-propellant rocket booster, with the projectile separating at a high altitude and then gliding at hypersonic speeds until impact. The upgraded version will increase performance of the original HVGP.

2. The highest level of classification of defense articles, components, and services included in this potential sale is SECRET.

3. If a technologically advanced adversary were to obtain knowledge of the specific hardware and software elements, the information could be used to develop countermeasures that might reduce system effectiveness or be used in the development of a system with similar advanced capabilities.

4. A determination has been made that Japan can provide substantially the same degree of protection for the sensitive technology being released as the U.S. Government. The sale is necessary to advance the U.S. foreign policy and national security objectives outlined in the Policy Justification.

5. All defense articles and services listed in this transmittal have been authorized for release and export to the Government of Japan.

[FR Doc. 2026-00771 Filed 1-15-26; 8:45 am]

BILLING CODE 6001-FR-P